DEPARTMENT OF COMMERCE

National Oceanic and Atmospheric Administration

RIN 0648-XE47

South Atlantic Fishery Management Council; Public Meetings

AGENCY: National Marine Fisheries Service (NMFS), National Oceanic and Atmospheric Administration, Commerce.

ACTION: Notice of a scoping meeting.

SUMMARY: The South Atlantic Fishery Management Council (Council) will hold a public scoping meeting regarding Amendment 7 to the Shrimp Fishery Management Plan for the South Atlantic Region. See SUPPLEMENTARY INFORMATION.

DATES: The public scoping meeting will be held January 16, 2008.

ADDRESSES: The meeting will be held at the Hilton Garden Inn Airport, 5265 International Boulevard, North Charleston, SC 29418; telephone: (877) 782-9444 or (843) 308-9330; fax: (843) 308-9331. Written comments must be received in the Council office by 5 p.m. on January 18, 2008.

Written comments should be sent to Bob Mahood, Executive Director, South Atlantic Fishery Management Council, 4055 Faber Place Drive, Suite 201, North Charleston, SC 29405, or via email to: ShrimpAm7scoping@safmc.net. Copies of the Shrimp Amendment 7 Scoping Document are available at the Council's web site at www.safmc.net or from Kim Iverson, South Atlantic Fishery Management Council, 4055 Faber Place Drive, Suite 201, North Charleston, SC 29405; telephone: (843) 571-4366 or toll free at (866) SAFMC-10.

FOR FURTHER INFORMATION CONTACT: Kim Iverson, South Atlantic Fishery Management Council, 4055 Faber Place Drive, Suite 201, North Charleston, SC 29405; telephone: (843) 571-4366; fax: (843) 769-4520; email address: kim.iverson@safmc.net.

SUPPLEMENTARY INFORMATION: The Council is considering modifying the entry requirements for the rock shrimp limited access program. Currently, rock shrimp fishermen are required to have a commercial vessel permit for rock shrimp, and those fishermen who fish off the east coast of Florida and Georgia are required to have a limited access endorsement. Vessels with the limited access endorsements are required to show documented landings of at least 15, 000 pounds of rock shrimp from the South Atlantic Council's area of jurisdiction in one out of four calendar years to retain the endorsement. The initial four-year period began in 2004 and will end December 31, 2007. The Council is also considering a requirement for all commercial shrimp vessel permit holders in the South Atlantic to provide economic data if selected.

Special Accommodations

This meeting is physically accessible to people with disabilities. Requests for sign language interpretation or other auxiliary aids should be directed to the Council office (see ADDRESSES) by January 14, 2008.

Dated: December 18, 2007.
Tracey L. Thompson,
Acting Director, Office of Sustainable Fisheries, National Marine Fisheries Service.

[FR Doc. E7-24816 Filed 12-20-07; 8:45 am]

BILLING CODE 3510-22-S